DEPARTMENT OF TRANSPORTATION

Federal Aviation Administration

14 CFR Part 39

[Docket No. FAA-2005-20871; Directorate Identifier 2004-NM-212-AD]

RIN 2120-AA64

Airworthiness Directives; Fokker Model F.28 Mark 1000, 2000, 3000, and 4000 Series Airplanes

AGENCY: Federal Aviation Administration (FAA), Department of Transportation (DOT).

ACTION: Notice of proposed rulemaking (NPRM).

SUMMARY: The FAA proposes to adopt a new airworthiness directive (AD) for all Fokker Model F.28 Mark 1000, 2000, 3000, and 4000 series airplanes. This proposed AD would require a detailed inspection to determine the presence of incorrectly installed bushings in the attachment holes of the reinforcing strap of the left- and right-hand wings' lower skin, and corrective actions if necessary. This proposed AD is prompted by a report that bushings were installed in accordance with improper procedures in the structural repair manual. We are proposing this AD to detect and correct improperly installed bushings, which could result in reduced tensile strength of the reinforcing strap of the wing's lower skin, and consequently a reduction of the structural capability of the wing and possible wing failure.

DATES: We must receive comments on this proposed AD by May 6, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Fokker Services B.V., P.O. Box 231, 2150 AE Nieuw-Vennep, the Netherlands.

You can examine the contents of this AD docket on the Internet at http://dms.dot.gov, or in person at the Docket Management Facility, U.S. Department of Transportation, 400 Seventh Street SW., room PL-401, on the plaza level of the Nassif Building, Washington, DC. This docket number is FAA-2005-20871; the directorate identifier for this docket is 2004-NM-212-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed under ADDRESSES. Include “Docket No. FAA-2005-20871; Directorate Identifier 2004-NM-212-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority—The Netherlands (CAA-NL), which is the airworthiness authority for the Netherlands, notified us that an unsafe condition may exist on all Fokker Model F.28 Mark 1000, 2000, 3000, and 4000 series airplanes. The CAA-NL advises that an operator found worn attachment holes in the reinforcing strap of a wing's lower skin at wing station (WS) 2635. Subsequent investigation found that the repair bushings were improperly installed (with the bushings running completely through the wing skin and reinforcing strap) in a number of holes during the accomplishment of (optional) Fokker Service Bulletin F28/57-77. That service bulletin refers to the Structural Repair Manual (SRM) chapter 57-02-02, repair No. 3, for restoration of close tolerance holes by oversizing the holes or by installing bushings. The SRM has been updated and Fokker has issued Manual Change Notification—Maintenance F28-027 to correct the flawed SRM procedure. Although a joint with improperly installed bushings may still have adequate shear strength, its tensile strength is considerably reduced. For this reason, the applied repair is considered to be inadequate. Improperly installed bushings, if not detected and corrected, could result in reduced tensile strength of the reinforcing strap of the wing's lower skin, and consequently a reduction of the structural capability of the wing and possible wing failure.

Relevant Service Information

Fokker Services B.V. has issued Fokker Service Bulletin F28/57-93, dated December 22, 2003. The service bulletin describes procedures for an inspection to determine the presence of incorrectly installed bushings in the attachment holes of the reinforcing strap of the left- and right-hand wings' lower skin at WS 2635, and the repair of bushings, if necessary.

Fokker Services B.V. has issued Fokker Service Bulletin F28/57-96, dated December 22, 2003. The service bulletin describes procedures for corrective action if the inspection reveals the presence of incorrectly installed bushings. The corrective action includes replacement of the reinforcing straps of the left- and right-hand wings' lower skin at WS 2635 with new reinforcing straps.

Accomplishing the actions specified in the service information is intended to adequately address the unsafe condition. The CAA-NL mandated the service information and issued Dutch airworthiness directive 2004-021, dated February 27, 2004, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are proposing this AD, which would require accomplishing the actions specified in the service information described previously.

Differences Between the Proposed AD and the Dutch Airworthiness Directive

Unlike the compliance times mandated in the Dutch airworthiness directive, this proposed AD would not permit further flight after incorrectly installed bushings or loose bolts in the attachment holes of the reinforcing strap are detected. This proposed AD would require corrective action before further flight. We find that, to achieve an adequate level of safety for the affected fleet, the corrective actions must be completed prior to further flight. Thus, we adjusted the compliance time for the corrective action, extending the initial inspection compliance time from the earlier of 6 months or 1,500 flight cycles after the effective date of the AD, as specified in the Dutch airworthiness directive, to the earlier of 12 months or 3,000 flight cycles after the effective date of the AD, as specified in this proposed AD. These differences have been coordinated with the CAA-NL.

Clarification of Inspection Terminology

In this proposed AD, the “inspection”' specified in the Fokker service bulletins is referred to as a “detailed inspection.” We have included the definition for a detailed inspection in a note in the proposed AD.

Costs of Compliance

The following table provides the estimated costs for U.S. operators to comply with this proposed AD.

Estimated Costs
Action | Work hours | Average labor rate per hour | Parts | Cost per airplane | Number of U.S. -registered airplanes | Fleet cost
Inspection | 8 | $65 | $0 | $520 | 12 | 6,240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2005-20871; Directorate Identifier 2004-NM-212-AD.

Comments Due Date

(a) The Federal Aviation Administration must receive comments on this AD action by May 6, 2005.

Affected ADs

(b) None.

Applicability

(c) This AD applies to all Fokker Model F.28 Mark 1000, 2000, 3000, and 4000 series airplanes, certificated in any category.

Unsafe Condition

(d) This AD was prompted by a report that bushings were installed in accordance with improper procedures in the structural repair manual. We are issuing this AD to detect and correct improperly installed bushings which could result in reduced tensile strength of the reinforcing strap of the wing's lower skin, and consequently a reduction of the structural capability of the wing and possible wing failure.

Compliance

(e) You are responsible for having the actions required by this AD performed within the compliance times specified, unless the actions have already been done.

Inspection and Corrective Actions

(f) Within 12 months or 3,000 flight cycles after the effective date of this AD, whichever occurs first, do a detailed inspection of the reinforcing strap of the left- and right-hand wings' lower skin at WS 2635 for improperly installed bushings in accordance with the Accomplishment Instructions of Fokker Service Bulletin F28/57-93, dated December 22, 2003.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no improperly installed bushing is found, no further action is required by this AD.

(2) If any improperly installed bushing is found, before further flight:

(i) Repair the bushing in accordance with the Accomplishment Instructions of Fokker Service Bulletin F28/57-93, dated December 22, 2003; and

(ii) Replace the reinforcing strap with a new reinforcing strap in accordance with the Accomplishment Instructions of Fokker Service Bulletin F28/57-96, dated December 22, 2003.

Alternative Methods of Compliance (AMOCs)

(g) The Manager, International Branch, ANM-116, Transport Airplane

Directorate, FAA, has the authority to approve AMOCs for this AD, if requested in accordance with the procedures found in 14 CFR 39.19.

Related Information

(h) Dutch airworthiness directive 2004-021, dated February 27, 2004, also addresses the subject of this AD.

Issued in Renton, Washington, on March 25, 2005.
Ali Bahrami,
Manager, Transport Airplane Directorate, Aircraft Certification Service.

[FR Doc. 05-6760 Filed 4-5-05; 8:45 am]

BILLING CODE 4910-13-P